ENVIRONMENTAL PROTECTION AGENCY

[FRL-7405-3]

Agency Information Collection Activities: Submission for OMB Review; Comment Request; Information Requirements for EPA Worker Protection Standards for Hazardous Waste Operations and Emergency Response

AGENCY: Environmental Protection Agency (EPA).

ACTION: Notice.

SUMMARY: In compliance with the Paperwork Reduction Act (44 U.S.C. 3501 et seq.), this document announces that the following Information Collection Request (ICR) has been forwarded to the Office of Management and Budget (OMB) for review and approval: Information Requirements for EPA Worker Protection Standards for Hazardous Waste Operations and Emergency Response, OMB Control No. 2050-0105, expiring October 31, 2002. The ICR describes the nature of the information collection and its expected burden and cost; where appropriate, it includes the actual data collection instrument.

DATES: Comments must be submitted on or before December 6, 2002.

ADDRESSES: Send comments, referencing EPA ICR No. 1420.06 and OMB Control No. 2050-0105, to the following addresses: Susan Auby, U.S. Environmental Protection Agency, Collection Strategies Division (Mail Code 2822T), 1200 Pennsylvania Avenue, NW., Washington, DC 20460-0001; and to Office of Information and Regulatory Affairs, Office of Management and Budget (OMB), Attention: Desk Officer for EPA, 725 17th Street, NW., Washington, DC 20503.

FOR FURTHER INFORMATION CONTACT: For a copy of the ICR contact Susan Auby at EPA by phone at (202) 566-1672, by E-mail at Auby.Susan@epa.gov, or download off the Internet at http://www.epa.gov/icr and refer to EPA ICR No. 1420.06. For technical questions about the ICR contact Sella M. Burchette, OSWER/OERR/ERTC, 732-321-6726.

SUPPLEMENTARY INFORMATION: Information Requirements for EPA Worker Protection Standards for Hazardous Waste Operations and Emergency Response, OMB Control No. 2050-0105, EPA ICR No. 1426.06, expiring October 31, 2002. This is a request for extension of a currently approved collection.

Abstract: This information collection request (ICR) addresses the information requirements for the U.S. Environmental Protection Agency's (EPA) worker protection standards for hazardous waste operations and emergency response under section 126(f) of the Superfund Amendments and Reauthorization Act of 1986 (SARA). SARA section 126(a) requires the Secretary of Labor to promulgate health and safety standards pursuant to section 6 of the Occupational Safety and Health Act of 1970 (OSH Act), for employees engaged in hazardous waste operations and emergency response. Section 126(b) lists eleven worker protection provisions that the Secretary of Labor was directed to include in the regulation (see attached copy of Section 126 of SARA, PL 99-499). These provisions include preparation of various written programs, plans, and records, monitoring of airborne hazards, training of employees, medical surveillance, and the dissemination of information to employees. Certain aspects of these provisions necessitate the collection of information by employers whose employees are engaged in hazardous waste operations and emergency response. These final standards do not specify any particular method of information collection. An agency may not conduct or sponsor, and a person is not required to respond to, a collection of information unless it displays a currently valid OMB control number. The OMB control numbers for EPA's regulations are listed in 40 CFR part 9 and 48 CFR chapter 15. The Federal Register document required under 5 CFR 1320.8(d), soliciting comments on this collection of information was published on March 21, 2002 (67 FR 13139); no comments were received.

Burden Statement: The annual public reporting and record keeping burden for this collection of information is estimated to average 10.68 hours per response. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

Respondents/Affected Entities: State and local workers.

Estimated Number of Respondents: 24,000.

Frequency of Response: Annually.

Estimated Total Annual Hour Burden: 255,427.

Estimated Total Annualized Capital, O&M Cost Burden: $0.

Send comments on the Agency's need for this information, the accuracy of the provided burden estimates, and any suggested methods for minimizing respondent burden, including through the use of automated collection techniques to the addresses listed above. Please refer to EPA ICR No. 1426.06 and OMB Control No. 2050-0105 in any correspondence.

Dated: October 30, 2002.
Sara Hisel-McCoy,
Acting Director, Collection Strategies Division.

[FR Doc. 02-28215 Filed 11-5-02; 8:45 am]

BILLING CODE 6560-50-P